DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis (BEA).

Title: Survey of International Travel Expenditures.

OMB Control Number: None.

Form Number(s): None.

Type of Request: Regular submission.

Burden Hours: 1,000.

Number of Respondents: 6,000.

Average Hours per Response: 10 minutes.

Needs and Uses: The proposed survey of international travel expenditures is authorized by the Bretton Woods Agreements Act, Section 8, and Executive Order 10033, as amended. The Act allows the DOC/BEA to collect the data necessary to produce the U.S. international transactions accounts (ITAs), which are part of the U.S. obligations to the International Monetary Fund.

The survey will collect information on travel expenditures by method of payment (cash, credit card, etc.) from U.S. travelers returning from abroad and foreign travelers leaving the United States.

This survey is needed to improve the quality of the travel component of the U.S. ITAs, which are used by government and other organizations for national and international economic policy formulation and analytical purposes.

Affected Public: Individuals or households.

Frequency: One-time only.

Respondent's Obligation: Voluntary.

OMB Desk Officer: Paul Bugg, (202) 395-3093.

Copies of the above information collection proposal can be obtained by calling or writing Diana Hynek, Departmental Paperwork Clearance Officer, (202) 482-0266, Department of Commerce, Room 6625, 14th and Constitution Avenue, NW., Washington, DC 20230 (or via e-mail at dHynek@doc.gov).

Written comments and recommendations for the proposed information collection should be sent within 30 days of publication of this notice to Paul Bugg, OMB Desk Officer, FAX number (202) 395-7245 or via e-mail at pbugg@omb.eop.gov.

Dated: May 2, 2008.
Gwellnar Banks,
Management Analyst, Office of the Chief Information Officer.

[FR Doc. E8-10049 Filed 5-6-08; 8:45 am]

BILLING CODE 3510-EA-P